DEPARTMENT OF JUSTICE

Notice of Lodging of Proposed Fourth Amended Consent Decree Under the Comprehensive Environmental Response, Compensation, and Liability Act

On May 7, 2019, the Department of Justice lodged a proposed Fourth Amended Consent Decree with the United States District Court for the Western District of Washington in the lawsuit entitled United States v. Point Ruston, LLC, Case No. 91-CV-05528-RJB.

This amended Consent Decree extends various remedial action deadlines and forgives certain payments due under the Third Amended Consent Decree in exchange for the disposition of contaminated soil from an adjacent parcel. Under the terms of this amendment: (1) Point Ruston will temporarily manage and dispose of the contaminated soil from the Metropolitan Parks Waterfront Phase I parcel pursuant to a Soil Management Plan; (2) Point Ruston's obligation to pay the remaining amount due under Paragraph 69 of the Third Amended Consent Decree is extinguished; (3) certain remedial action deadlines set forth in the Construction Management Plans are extended for six months; and (4) a legal citation in the “Access and Institutional Controls” section of the Third Amended Consent Decree is updated to reflect a change in Washington state law.

The publication of this notice opens a period for public comment on the Fourth Amended Consent Decree. Comments should be addressed to the Assistant Attorney General, Environment and Natural Resources Division, and should refer to United States v. Point Ruston, LLC, Case No. 91-CV-05528-RJB, D.J. Ref. No. 90-11-2-698/2. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, D.C. 20044-7611.

During the public comment period, the Fourth Amended Consent Decree may be examined and downloaded at this Justice Department website: https://www.justice.gov/enrd/consent-decrees. We will provide a paper copy of the Fourth Amended Consent Decree upon written request and payment of reproduction costs. Please mail your request and payment to: Consent Decree Library, U.S. DOJ—ENRD, P.O. Box 7611, Washington, DC 20044-7611.

Please enclose a check or money order for $2.25 (25 cents per page reproduction cost) payable to the United States Treasury.

Susan M. Akers,
Assistant Section Chief, Environmental Enforcement Section, Environment and Natural Resources Division.

[FR Doc. 2019-09771 Filed 5-10-19; 8:45 am]

BILLING CODE 4410-15-P